DEPARTMENT OF DEFENSE

Office of the Secretary

Review of Department of Defense Supported Federal Advisory Committees

AGENCY: DoD.

ACTION: Notice.

SUMMARY: Under the provisions of the Federal Advisory Committee Act of 1972, as amended (5 U.S.C., Appendix) and 41 CFR, parts 102-3 through 102-3.185, the Department of Defense gives notice of changes to several existing DoD-Supporting Federal Advisory Committees.

These changes are a result of the Department of Defense's continuing efforts to improve its Federal Advisory Committee Management Program by streamlining the independent advice and recommendations being received by the Secretary of Defense and his senior advisors. Key to the Department of Defense's efforts was the need to provide the Secretary of Defense and his senior advisors a strategic view of issues by establishing a foundation for cross communications and integrated thinking which is centrally funneled to the ultimate decision maker.

The specific changes being made are:

A. The Department of Defense establishes the Defense Health Board. This Federal Advisory Committee shall advise the Secretary of Defense, through the Under Secretary of Defense (Personnel and Readiness) and the Assistant Secretary of Defense (Health Affairs) on matters pertaining to operational programs, policy development, and research programs and requirements for the treatment and prevention of disease and injury, the promotion of health and delivery of health care services to Department of Defense beneficiaries.

B. The Department of Defense disestablishes the following chartered Federal Advisory Committees and reestablishes their functions as subcommittees of the Defense Health Board:

Armed Forces Epidemiological Board

Board of Directors of Amputee Patient Care Program

Scientific Advisory Board of the Armed Forces Institute of Pathology

C. With the disestablishment of the Armed Forces Epidemiological Board, the Department of Defense also disestablishes the Department of Defense Mental Health Task Force as a subcommittee of the Armed Forces Epidmiological Board and reestablishes it as a non-chartered subcommittee of the Defense Health Board. The Department of Defense Mental Health Task Force, as a subcommittee of the Defense Health Board, shall comply with the provisions of Section 723 of Public Law 109-163.

D. The Department of Defense disestablishes the following chartered Federal Advisory Committees and reestablishes their functions as subcommittees of the Defense Science Board:

Joint Advisory Committee on Nuclear Weapons Surety

DoD Advisory Group on Electronic Devices

These committees and their subcommittees provide necessary and valuable independent advice to the Secretary of Defense and other senior Defense officials in their respective areas of expertise. They make important contributions to DoD efforts in research and development, education, and training, and various technical program areas.

It is a continuing DoD policy to make every effort to achieve a balanced membership on all DoD advisory committees. Each committee is evaluated in terms of the functional disciplines, levels of experience, professional diversity, public and private association, and similar characteristics required to ensure a high degree of balance is obtained.

FOR FURTHER INFORMATION CONTACT: Contact Frank Wilson, Committee Management Office for the Department of Defense, 703-601-2554, extension 113.

Dated: October 23, 2004.
L.M. Bynum,
Alternate OSD Federal Register, Liaison Officer, Department of Defense.

[FR Doc. 06-8910 Filed 10-26-06; 8:45 am]

BILLING CODE 5001-08-M